DEPARTMENT OF ENERGY

Federal Energy Regulatory Commission

Combined Notice of Filings #1

Take notice that the Commission received the following electric rate filings:

Docket Numbers: ER21-1001-001.

Applicants: New York Independent System Operator, Inc.

Description: Compliance filing: NYISO Notice: effective date for implementation of CSR to be effective 3/31/2021.

Filed Date: 11/30/21.

Accession Number: 20211130-5050.

Comment Date: 5 p.m. ET 12/21/21.

Docket Numbers: ER21-2722-001.

Applicants: E. BarreCo Corp LLC.

Description: Refund Report: Refund Report to 2 to be effective N/A.

Filed Date: 11/30/21.

Accession Number: 20211130-5056.

Comment Date: 5 p.m. ET 12/21/21.

Docket Numbers: ER22-192-000.

Applicants: Evolugen Trading and Marketing LP.

Description: Supplement to October 22, 2021 Evolugen Trading and Marketing LP, tariff filing.

Filed Date: 11/24/21.

Accession Number: 20211124-5111.

Comment Date: 5 p.m. ET 12/1/21.

Docket Numbers: ER22-418-001.

Applicants: New York Independent System Operator, Inc.

Description: Tariff Amendment: NYISO Notice: Effective date for implementation of CSR enhancements to be effective 12/15/2021.

Filed Date: 11/30/21.

Accession Number: 20211130-5086.

Comment Date: 5 p.m. ET 12/21/21.

Docket Numbers: ER22-486-000.

Applicants: PJM Interconnection, L.L.C.

Description: § 205(d) Rate Filing: Rev. to OATT & OA re GDECS 6 Clean-Up & Clarification to Governing Documents to be effective 1/29/2022.

Filed Date: 11/29/21.

Accession Number: 20211129-5257.

Comment Date: 5 p.m. ET 12/20/21

Docket Numbers: ER22-487-000.

Applicants: Southwest Power Pool, Inc.

Description: § 205(d) Rate Filing: 3870 White Rock Wind West GIA to be effective 11/9/2021.

Filed Date: 11/30/21.

Accession Number: 20211130-5061.

Comment Date: 5 p.m. ET 12/21/21.

Docket Numbers: ER22-488-000.

Applicants: AEP Texas Inc.

Description: § 205(d) Rate Filing: AEPTX-Formosa Utility Venture 2nd A&R Generation Interconnection Agreement to be effective 11/1/2021.

Filed Date: 11/30/21.

Accession Number: 20211130-5073.

Comment Date: 5 p.m. ET 12/21/21.

Docket Numbers: ER22-489-000.

Applicants: Entergy Arkansas, LLC.

Description: § 205(d) Rate Filing: EAL-MSS-4 Replacement Tariff to be effective 12/1/2021.

Filed Date: 11/30/21.

Accession Number: 20211130-5083.

Comment Date: 5 p.m. ET 12/21/21.

Docket Numbers: ER22-490-000.

Applicants: Midcontinent Independent System Operator, Inc., Great River Energy.

Description: § 205(d) Rate Filing: Midcontinent Independent System Operator, Inc. submits tariff filing per 35.13(a)(2)(iii: 2021-11-30_SA 3741 GRE-MRES-WMMPA Master IA to be effective 12/1/2021.

Filed Date: 11/30/21.

Accession Number: 20211130-5125.

Comment Date: 5 p.m. ET 12/21/21.

Docket Numbers: ER22-491-000.

Applicants: American Electric Power Service Corporation, Ohio Power Company, PJM Interconnection, L.L.C.

Description: § 205(d) Rate Filing: American Electric Power Service Corporation submits tariff filing per 35.13(a)(2)(iii: AEP submits one Facilities Agreement re: ILDSA SA No. 1336 to be effective 1/30/2022.

Filed Date: 11/30/21.

Accession Number: 20211130-5129.

Comment Date: 5 p.m. ET 12/21/21.

Docket Numbers: ER22-492-000.

Applicants: PSEG Energy Resources & Trade LLC.

Description: Tariff Amendment: PSEG Rate Schedule Cancellations to be effective 12/1/2021.

Filed Date: 11/30/21.

Accession Number: 20211130-5136.

Comment Date: 5 p.m. ET 12/21/21.

Docket Numbers: ER22-493-000.

Applicants: Southern California Edison Company.

Description: § 205(d) Rate Filing: LA Ortega Grid WDT1636 SA No 1167 to be effective 1/30/2022.

Filed Date: 11/30/21.

Accession Number: 20211130-5152.

Comment Date: 5 p.m. ET 12/21/21.

Docket Numbers: ER22-494-000.

Applicants: San Diego Gas & Electric Company.

Description: § 205(d) Rate Filing: WDAT SGIA for Buckman Springs Solar to be effective 12/1/2021.

Filed Date: 11/30/21.

Accession Number: 20211130-5156.

Comment Date: 5 p.m. ET 12/21/21.

Docket Numbers: ER22-495-000.

Applicants: Midcontinent Independent System Operator, Inc.

Description: § 205(d) Rate Filing: 2021-11-30_RAN Seasonal Construct and Availability based accreditation to be effective 9/1/2022.

Filed Date: 11/30/21.

Accession Number: 20211130-5166.

Comment Date: 5 p.m. ET 12/21/21.

Docket Numbers: ER22-496-000.

Applicants: Midcontinent Independent System Operator, Inc.

Description: § 205(d) Rate Filing: 2021-11-30_Minimum Capacity Obligation Filing to be effective 9/1/2022.

Filed Date: 11/30/21.

Accession Number: 20211130-5171.

Comment Date: 5 p.m. ET 12/21/21.

Docket Numbers: ER22-497-000.

Applicants: NG Renewables Energy Marketing, LLC.

Description: Baseline eTariff Filing: Application for Market-Based Rate Authority to be effective 1/1/2022.

Filed Date: 11/30/21.

Accession Number: 20211130-5186.

Comment Date: 5 p.m. ET 12/21/21.

Docket Numbers: ER22-498-000.

Applicants: Public Service Company of Colorado.

Description: § 205(d) Rate Filing: 2021-11-30 PSCo-WAPA-Op & Maint-350-0.1.0-Exh M to be effective 1/30/2022.

Filed Date: 11/30/21.

Accession Number: 20211130-5216.

Comment Date: 5 p.m. ET 12/21/21.

Docket Numbers: ER22-499-000.

Applicants: Pacific Gas and Electric Company.

Description: § 205(d) Rate Filing: November 2021 Western WDT Service Agreement Biannual Filing (SA 17) to be effective 2/1/2022.

Filed Date: 11/30/21.

Accession Number: 20211130-5249.

Comment Date: 5 p.m. ET 12/21/21.

Docket Numbers: ER22-500-000.

Applicants: Morongo Transmission LLC.

Description: § 205(d) Rate Filing: Annual TRBAA Filing to be effective 1/1/2022.

Filed Date: 11/30/21.

Accession Number: 20211130-5251.

Comment Date: 5 p.m. ET 12/21/21.

Docket Numbers: ER22-501-000.

Applicants: Pacific Gas and Electric Company.

Description: § 205(d) Rate Filing: November 2021 Western Interconnection Biannual Filing (TO SA 59) to be effective 2/1/2022.

Filed Date: 11/30/21.

Accession Number: 20211130-5255.

Comment Date: 5 p.m. ET 12/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2021.
Kimberly D. Bose,
Secretary.

[FR Doc. 2021-26385 Filed 12-3-21; 8:45 am]

BILLING CODE 6717-01-P